ENVIRONMENTAL PROTECTION AGENCY

[EPA-HQ-OPP-2006-0084; FRL-7769-9]

Notice of Receipt of Requests to Voluntarily Cancel Certain Pesticide Registrations: Technical Correction

AGENCY: Environmental Protection Agency (EPA).

ACTION: Notice.

SUMMARY: In accordance with section 6(f)(1) of the Federal Insecticide, Fungicide, and Rodenticide Act (FIFRA), as amended, EPA issued a notice of receipt of request by registrants to voluntarily cancel certain pesticide registrations. That notice was published in the Federal Register on February 22, 2006, (71 FR 9118-9125). The notice announced that 90 pesticide registrations would be canceled after 180 days unless a request was withdrawn. These 90 registrations were listed in Table 1. The registrant waived the 180 day comment period for EPA Registration Number 66222-81 (Pendimethalin Technical) and EPA Registration Number 66222-82 (Repose) which was not noted in the February 22, 2006 Notice. This notice corrects the deadline for submission of withdrawal request for EPA Registration Number 66222-81 (Pendimethalin Technical) and EPA Registration Number 66222-82 (Repose) only. The deadline for withdrawal request on these two registrations should have been 30 days after publication in the Federal Register.

DATES: Unless a request is withdrawn by March 24, 2006, orders will be issued canceling the registrations for EPA Registration Number(s): 66222-81 and 66222-82. The Agency will consider withdrawal requests postmarked no later than March 22, 2006.

FOR FURTHER INFORMATION CONTACT: John Jamula, Information Technolocy and Resources Management Division (7502C), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under Docket identification number [EPA-HQ-OPP-2006-0084; FRL-7769-9]. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the “Federal Register” listings at http://www.epa.gov/fedrgstr/.

II. What Action is the Agency Taking?

This notice corrects information that was published in the Federal Register on February 22, 2006, (71 FR 9118-9125). The notice of receipt of request to voluntarily cancel certain pesticide registrations announced that 90 pesticide registrations would be canceled after 180 days unless a request was withdrawn. These 90 registrations were listed in Table 1. This notice corrects information in the notice about two of the registrations. These registrations are: EPA Registration Number 66222-81 (Pendimethalin Technical) and EPA Registration Number 66222-82 (Repose). The registrant waived the 180 day comment period for these two registrations. This waiver was not noted in the February 22, 2006 Notice.

Unless a request is withdrawn by the registrant by March 24, 2006, orders will be issued canceling both of these registrations. Users of these pesticides or anyone else desiring the retention of a registration should contact the applicable registrant directly prior to March 24, 2006.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before March 24, 2006. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: March 13, 2006.
Robert A. Forrest,
Acting Director, Information Technology and Resources Management Division, Office of Pesticide Programs.

[FR Doc. 06-2633 Filed 3-16-06; 8:45 am]

BILLING CODE 6560-50-S